NUCLEAR REGULATORY COMMISSION

10 CFR Parts 50 & 52

[NRC-2012-0031]

RIN 3150-AJ11

Onsite Emergency Response Capabilities

AGENCY: Nuclear Regulatory Commission.

ACTION: Draft regulatory basis.

SUMMARY: The U.S. Nuclear Regulatory Commission (NRC or the Commission) is issuing a draft regulatory basis document to support the potential amendment of its regulations concerning nuclear power plant licensees' onsite emergency response capabilities. The NRC is seeking public comments on this document. The issuance of this draft regulatory basis document is one of the actions stemming from the NRC's lessons-learned efforts associated with the March 2011 Fukushima Dai-ichi Nuclear Power Plant accident in Japan.

DATES: Submit comments by February 22, 2013. Comments received after this date will be considered if it is practical to do so, but the NRC is only able to ensure consideration of comments received on or before this date.

ADDRESSES: You may access information and comment submissions related to these documents, which the NRC possesses and are publicly available, by searching on http://www.regulations.gov under Docket ID NRC-2012-0031. You may submit comments by any of the following methods:

• Federal Rulemaking Web Site: Go to http://www.regulations.gov and search for Docket ID NRC-2012-0031. Address questions about NRC dockets to Carol Gallagher; telephone: 301-492-3668; email: Carol.Gallagher@nrc.gov.

• Email comments to: Rulemaking.Comments@nrc.gov. If you do not receive an automatic email reply confirming receipt, contact us directly at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern time) Federal workdays; telephone: 301-415-1677.

For additional direction on accessing information and submitting comments, see “Accessing Information and Submitting Comments” in the SUPPLEMENTARY INFORMATION section of this document.

FOR FURTHER INFORMATION CONTACT: Robert H. Beall, Office of Nuclear Reactor Regulation, U.S. Nuclear Regulatory Commission, Washington, DC 20555-0001; telephone: 301-415-3874; email: Robert.Beall@nrc.gov.

SUPPLEMENTARY INFORMATION:

I. Accessing Information and Submitting Comments

A. Accessing Information

Please refer to Docket ID NRC-2012-0031 when contacting the NRC about the availability of information for this notice. You may access information related to this draft regulatory basis, which the NRC possesses and is publicly available, by the following methods:

• Federal Rulemaking Web Site: Go to http://www.regulations.gov and search for Docket ID NRC-2012-0031.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov. The ADAMS Accession No. for each document referenced in this notice (if that document is available in ADAMS) is provided the first time that a document is referenced. A table listing documents that provide additional background and supporting information is in Appendix F of the draft regulatory basis.

• NRC's PDR: You may examine and purchase copies of public documents at the NRC's PDR, Room O1-F21, One White Flint North, 11555 Rockville Pike, Rockville, Maryland 20852.

B. Submitting Comments

Please include Docket ID NRC-2012-0031 in the subject line of your comment submission to ensure that the NRC is able to make your comment submission available to the public in this docket.

The NRC cautions you not to include identifying or contact information that you do not want to be publicly disclosed in comment submissions. The NRC posts all comment submissions at http://www.regulations.gov and enters the comment submissions into ADAMS. The NRC does not edit comment submissions to remove identifying or contact information.

If you are requesting or aggregating comments from other persons for submission to the NRC, then you should inform those persons not to include identifying or contact information that they do not want to be publicly disclosed in their comment submissions. Your request should state that the NRC will not edit comment submissions to remove such information before making the comment submissions available to the public or entering the comment submissions into ADAMS.

II. Background

As the NRC continues its ongoing proposed rulemaking effort to amend portions of Parts 50 and 52 of Title 10 of the Code of Federal Regulations (10 CFR) to strengthen and integrate onsite emergency response capabilities, the NRC is making preliminary documents publicly available on the Federal rulemaking Web site, www.regulations.gov, under Docket ID NRC-2012-0031. By making these documents publicly available, the NRC seeks to inform stakeholders of the current status of the NRC's rulemaking development activities and to provide preparatory material for future public meetings. The NRC is instituting a 45-day public comment period on these materials, and the public is encouraged to participate in any related public meetings.

III. Publicly Available Documents

The NRC has posted on www.regulations.gov for public availability the draft regulatory basis to strengthen and integrate onsite emergency response capabilities. This regulatory basis documents the reasons why the NRC determined rulemaking was the appropriate course of action to remedy a regulatory shortcoming.

In addition, the NRC has posted preliminary proposed rule language related to this rulemaking as Appendix C of the draft regulatory basis. This preliminary proposed rule language contains one portion of the NRC's proposed changes. This language does not represent a final NRC staff position nor has it been reviewed by the Commission. Therefore, the preliminary proposed rule language may undergo significant revision during the rulemaking process.

The NRC is requesting formal public comments on the draft regulatory basis and the preliminary proposed rule language. The NRC may post additional materials, including other preliminary proposed rule language, to the Federal rulemaking Web site at www.regulations.gov, under Docket ID NRC-2012-0031. The Federal rulemaking Web site allows you to receive alerts when changes or additions occur in a docket folder. To subscribe: (1) Navigate to the docket folder (NRC-2012-0031); (2) click the “Email Alert” link; and (3) enter your email address and select how frequently you would like to receive emails (daily, weekly, or monthly).

IV. Plain Writing

The Plain Writing Act of 2010 (Pub. L. 111-274) requires Federal agencies to write documents in a clear, concise, well-organized manner that also follows other best practices appropriate to the subject or field and the intended audience. Although regulations are exempt under the Act, the NRC is applying the same principles to its rulemaking documents. Therefore, the NRC has written this document, including the preliminary proposed rule language, to be consistent with the Plain Writing Act.

Dated at Rockville, Maryland, this 26th day of December, 2012.
For the Nuclear Regulatory Commission.
Sher Bahadur,
Deputy Director, Division of Policy and Rulemaking, Office of Nuclear Reactor Regulation.

[FR Doc. 2012-31706 Filed 1-7-13; 8:45 am]

BILLING CODE 7590-01-P